DEPARTMENT OF THE INTERIOR

Bureau of Indian Affairs

Land Acquisitions; Nottawaseppi Huron Band of Potawatomi Indians of Michigan

AGENCY: Bureau of Indian Affairs, Interior.

ACTION: Notice of final agency determination to take land into trust under 25 CFR part 151.

SUMMARY: The Assistant Secretary—Indian Affairs made a final agency determination to acquire approximately 78.26 acres, more or less, of land into trust for the Nottawaseppi Huron Band of Potawatomi Indians of Michigan on July 31, 2002. This notice is published in the exercise of authority delegated by the Secretary of the Interior to the Assistant Secretary—Indian Affairs by 209 Departmental Manual 8.1.

FOR FURTHER INFORMATION CONTACT: Nancy J. Pierskalla, Office of Indian Gaming Management, Bureau of Indian Affairs, MS-2070 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On July 31, 2002, the Assistant Secretary—Indian Affairs decided to accept approximately 78.26 acres, more or less, of land known as the Sackrider property into trust for the Nottawaseppi Huron Band of Potawatomi Indians of Michigan under the authority of Section 5 of the Indian Reorganization Act of 1934, 25 U.S.C. 465. The United States acknowledged the Nottawaseppi Huron Band through the federal acknowledgment process (25 CFR 83), and the notice of final determination acknowledging the Band was published in the Federal Register on December 21, 1995 (60 FR 66315). The Final Determination for Federal Acknowledgment for the Band was effective on March 21, 1996. The Band had no trust land at the time of acknowledgment. By memorandum dated December 13, 2000, the Associate Solicitor—Indian Affairs concluded that the land is within the geographical region anticipated as part of the Band's land base and may be included as part of the Band's initial reservation. Further, if the Sackrider property were included in the initial proclamation of reservation, it would meet the requirements of the “initial reservation” exception of IGRA, 25 U.S.C. 2719(b)(1)(B)(ii), excepting it from the general prohibition on gaming on trust land acquired after October 17, 1988, contained in 25 U.S.C. 2719(a).

The Sackrider Property's legal description is as follows:

Commencing at the West ¼ Post of Section 13, Town 2 South, Range 7 West, Emmett Township, Calhoun County, Michigan; thence North 00 Degrees 03′ 28″ East along the West line of said section, 46.99 feet to the Southerly Line of the exit ramp for I-94, as recorded in Liber 898, page 004 in the Office of the Register of Deeds for Calhoun County, Michigan; thence North 89 Degrees 06′ 09″ East along said Southerly Line, 214.69 feet; thence 362.37 feet along the arc of a curve to the left whose radius measures 362.0 feet and whose chord bears North 60 Degrees 25′ 31″ East, 347.43 feet; thence North 31 Degrees 44′ 56″ East, 263.62 feet; thence North 59 Degrees 52′ 54″ East, 81.39 feet to the place of beginning; thence continuing North 59 Degrees 52′ 54″ East, 181.87 feet; thence South 78 Degrees 01′ 12″ East, 472.30 feet; thence South 76 Degrees 27′ 00″ East, 1357.31 feet; thence South 00 Degrees 04′ 24″ West, 205.69 feet; to the Northwest corner of Lot 21 of the supervisor's plat of Wagner Acres, as recorded in Liber 11 of plats on page 21 in the Office of the Register of Deeds for Calhoun County, Michigan; thence South 00 Degrees 04′ 24″ West along the West line of said plat, 1992.58 feet to the centerline of Michigan Ave.; thence North 55 Degrees 29′ 21″ West along said centerline, 2350.98 feet; thence North 00 Degrees 03′ 28″ East, 1191.07 feet to the place of beginning.

It consists of 78.26 acres of land, located in Emmett Township, Calhoun County, Michigan.

The Secretary will take the land into trust subject to completion and certification of an updated contaminant survey, and satisfaction of all title requirements.

Dated: August 6, 2002.
Neal A. McCaleb,
Assistant Secretary—Indian Affairs.

[FR Doc. 02-20303 Filed 8-8-02; 8:45 am]

BILLING CODE 4310-4N-P